FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ABC Logistics, Inc. (NVO), 1833 N. 105th Street, Suite 306, Seattle, WA 98133-8973, Officers: Mark Dudley, Vice President (QI), Alexander Mednikow, President, Application Type: New NVO License.

AfriCom Logistics, Incorporated (NVO & OFF), 565 Broadhollow Road, Suite 10E, Farmingdale, NY 11735, Officers: Emeka J. Ukasoanya, Vice President (QI), Ugo N. Ukasoanya, Secretary, Application Type: New NVO & OFF License.

Aztec Marine Agencies, Inc. dba Beaumont Logistics Group (OFF), 1485 Wellington Circle, Suite 101, Beaumont, TX 77706, Officers: Rosemary Asta, President (QI), Christopher Asta, Vice President, Application Type: Change Trade Name to Acceleron Logistics LLC.

Base Ventures International, Inc. dba Base Ventures Shipping (NVO & OFF), 160 1st Street SE. Suite 201, New Brighton, MN 55112, Officers: Oluwaseyi E. Olawore, President (QI), Novella E. Olawore, Vice President, Application Type: New NVO & OFF License.

DGL (L.A.) Inc. (NVO & OFF), 2707 East Valley Blvd., Suite 312, West Covina, CA 91792, Officers: Andy Kung, Vice President (QI), Dongcheng Yang, President, Application Type: New NVO & OFF License.

Global Transport System, Inc. (OFF), 4624 NW 74th Avenue, Miami, FL 33166, Officers: Ivonne Cardenas, President (QI), Jose A. Lopez, Vice President, Application Type: New OFF License.

Honeybee International, Inc. (NVO), 2301 South Tubeway Avenue, Commerce, CA 90040, Officer: Reda Aljabi, President (QI), Application Type: QI Change.

Kenter Logistics USA, LLC (NVO & OFF), 700 Louisiana Street, Suite 3950, Houston, TX 77002, Officers: Gerald Stoll, Vice President (QI), Emily Jackman, Managing Member, Application Type: New NVO & OFF License.

Loadnship LLC (NVO & OFF), 516 E. Oaks Street, Compton, CA 90221, Officer: Moaykel Moaykel, President (QI), Application Type: New NVO & OFF License.

Next Generation Logistics Inc (NVO & OFF), 7325 Adams Street, Paramount, CA 90273, Officers: David Shen, Director (QI), Xu Yang, Director, Application Type: New NVO & OFF License.

Ryder Global Services, LLC (NVO & OFF), 11690 NW. 105th Street, Law 4W, Miami, FL 33178, Officers: Jeffrey A. Kristol, Vice President (QI), John H. Williford, President, Application Type: QI Change.

Swift Freight (USA) Inc. dba American Container Lines (NVO & OFF), 16808 Marquardt Avenue, Cerritos, CA 90703, Officers: Kamal Vazirani, Vice President (QI), Jayant Bharadwaj, President, Application Type: Add OFF Service.

Tecnoship Group, Corp. (NVO), 2153 NW. 79th Avenue, Miami, FL 33122, Officers: Jose F. Rodriguez, President (QI), Maria P. De Oliveira, Director, Application Type: QI Change.

TLI International, Inc. (OFF), 25 Shaw Street, Annapolis, MD 21401, Officers: Gregory J. McCloskey, Vice President (QI), John W. Rodenhouse, CEO, Application Type: Transfer to DFS Ocean Services LLC.

By the Commission.
Dated: September 13, 2013.
Rachel E. Dickon,
Assistant Secretary.

[FR Doc. 2013-22767 Filed 9-18-13; 8:45 am]

BILLING CODE 6730-01-P